DEPARTMENT OF HEALTH AND HUMAN SERVICES

National Institutes of Health

Center for Scientific Review; Amended Notice of Meeting

Notice is hereby given of a change in the meeting of the Center for Scientific Review Special Emphasis Panel ZRG1 DIRH-X (04), October 01, 2013, 04:00 p.m. to October 01, 2013, 05:00 p.m., Embassy Suites at the Chevy Chase Pavilion, 4300 Military Road NW., Washington, DC 20015, which was published in the Federal Register on September 03, 2013, 78 FR 170 Pgs. 54259-54261.

The meeting will be held at the National Institutes of Health, 6701 Rockledge Dr., Bethesda, MD 20892. The meeting will start on December 9, 2013 at 12:00 p.m. and end December 9, 2013 at 1:00 p.m. The meeting is closed to the public.

Dated: October 29, 2013.
Michelle Trout,
Program Analyst, Office of Federal Advisory Committee Policy.

[FR Doc. 2013-26157 Filed 11-1-13; 8:45 am]

BILLING CODE 4140-01-P